DEPARTMENT OF TRANSPORTATION

National Highway Traffic Safety Administration

[U.S. DOT Docket Number NHTSA-2017-0105]

Notice and Request for Comments

AGENCY: National Highway Traffic Safety Administration (NHTSA), U.S. Department of Transportation.

ACTION: Notice and request for comments.

SUMMARY: The U.S. Department of Transportation (DOT) invites public comment about our intention to request the Office of Management and Budget (OMB) approval to reinstate an information collection. Under procedures established by the Paperwork Reduction Act of 1995, before seeking OMB approval, Federal agencies must solicit public comment on proposed collections of information, including extensions and reinstatement of previously approved collections.

DATES: Comments must be received on or before April 24, 2018.

ADDRESSES: You may submit comments (identified by DOT docket no. NHTSA-2017-0105) through one of the following methods:

• Federal eRulemaking Portal: http://www.regulations.gov. Follow instructions for submitting comments.

• Fax: 202-493-2251.

• Mail: Docket Management Facility; U.S. Department of Transportation, 1200 New Jersey Avenue SE, West Building, Ground Floor, Room W12-140, Washington, DC 20590.

• Hand Delivery/Courier: 1200 New Jersey Avenue SE, West Building Ground Floor, Room W12-140, Washington, DC 20590, between 9 a.m. and 5 p.m., Monday through Friday, except Federal Holidays. Telephone: 1-800-647-5527.

Instructions: Submissions must include the agency name and docket number for this proposed collection of information. Note all comments received will be posted without change to http://www.regulations.gov, including any personal information provided.

Docket: For access to the docket to read background documents or comments received, go to http://www.regulations.gov at any time or to Room W12-140 on the ground level of the DOT Building, 1200 New Jersey Avenue SE, West Building Ground Floor, Washington, DC 20590 between 9 a.m. and 5 p.m., Monday through Friday, except Federal Holidays.

FOR FURTHER INFORMATION CONTACT: Hisham Mohamed, NHTSA, 1200 New Jersey Avenue SE, West Building, Room #W43-437, NRM-310, Washington, DC 20590. Mr. Mohamed's telephone number is 202-366-0307. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information.

The OMB has promulgated regulations describing what must be included in such a document. Under OMB's regulation (at 5 CFR 1320.8(d)), an agency must ask for public comment on the following:

(i) Whether the proposed collection of information is necessary for the proper performance of functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques, or other forms of information technology, e.g., permitting electronic submission of responses.

In compliance with these requirements, NHTSA asks for public comments on the following proposed collections of information:

Title: 49 CFR part 575.104; Uniform Tire Quality Grading Standard.

OMB Control Number: 2127-0519.

Type of Request: Request for Reinstatement of a Currently Expired Collection of Information.

Abstract: Part 575.104, Uniform Tire Quality Grading Standard (UTQGS) requires tire manufacturers and tire brand owners to submit reports to NHTSA regarding grades of all passenger car tire lines they offer for sale in the United States. This information is used by consumers of passenger car tires to compare tire quality in making purchase decisions. The information is provided in several different ways to ensure the consumer can readily see and understand the tire grade: (1) Grades are molded into the sidewall of the tire so they can be reviewed on both the new tire and the old tire that is being replaced; (2) a paper label is affixed to the tread face of the new tire providing the grade of that particular tire line along with an explanation of the grading system; (3) tire manufacturers provide dealers with brochures for public distribution listing grades of all of the tire lines they offer for sale; and (4) NHTSA compiles the grading information of all manufacturers' tire lines into a booklet that is available to the public in printed form and on the NHTSA website.

Affected Public: All passenger car tires manufacturers and brand name owners offering passenger car tires for sale in the United States.

Estimated Number of Respondents: There are approximately 160 individual tire brands sold in the United States. Because of industry consolidation the actual number of respondents will be significantly reduced, since manufacturers generally file reports on behalf of the various individual brand names for which they produce tires. The actual number of respondents is approximately 45.

Frequency: Intermittently.

Number of Responses: 160.

Estimated Total Annual Burden Hours: 91,288.

Estimated Annual Burden Cost: $37,374,299 (approximately $37.4 million).

Public Comments Invited: Comments are invited on:

• Whether the proposed collection of information is necessary for the proper performance of functions of the Department, including whether the information will have practical utility;

• the accuracy of the Department's estimate of the burden of the proposed information collection;

• ways to enhance the quality, utility and clarity of the information to be collected; and ways to minimize the burden of the collection of information on respondents, including the use of automated collection techniques or other forms of information technology.

Issued in Washington, DC, under authority delegated in 49 CFR 1.95 and 501.8.
Raymond R. Posten,
Associate Administrator for Rulemaking.

[FR Doc. 2018-03682 Filed 2-22-18; 8:45 am]

BILLING CODE 4910-59-P